POSTAL SERVICE

Board of Governors; Sunshine Act Meeting

DATE AND TIMES: Tuesday, May 10, 2011, at 8 a.m. and 2 p.m.

PLACE: Washington, DC, at U.S. Postal Service Headquarters, 475 L'Enfant Plaza, SW., in the Benjamin Franklin Room.

STATUS: Tuesday, May 10 at 8 a.m.—Closed; and at 2 p.m.—Open.

MATTERS TO BE CONSIDERED:

Tuesday, May 10 at 8 a.m. (Closed)

1. Strategic Issues.

2. Pricing.

3. Financial Matters.

4. Personnel Matters and Compensation Issues.

5. Governors' Executive Session—Discussion of prior agenda items and Board Governance.

Tuesday, May 10 at 2 p.m. (Open)

1. Approval of Minutes of Previous Meetings.

2. Remarks of the Chairman of the Board.

3. Remarks of the Postmaster General and CEO.

4. Committee Reports.

5. Quarterly Report on Financial Performance.

6. Quarterly Report on Service Performance.

7. Tentative Agenda for the June 20-21, 2011, meeting in Washington, DC.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2011-10750 Filed 4-28-11; 4:15 pm]

BILLING CODE 7710-12-P